NATIONAL FOUNDATION FOR THE ARTS AND HUMANITIES

Survey of the Status of Digitization and Technology in the Nation's Museums, Libraries and Archives

AGENCY: Institute of Museum and Library Services.

ACTION: Notice of Requests for Information Collection, Submission for OMB Review.

SUMMARY: The Institute of Museum and Library Services announces the following information collection has been submitted to the Office of Management and Budget for review and approval in accordance with the Paperwork Reduction Act of 1995 (Pub. L. 104-13, 44 U.S.C. Chapter 35). A copy of the proposed forms may be obtained by calling the Institute of Museum and Library Services, Director of Research and Technology, Rebecca Danvers at (202) 606-2478. Individuals who use a telecommunications device for the deaf (TTY/TDD) may call (202) 606-8636.

DATES: Comments must be received by June 3, 2004. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the form contact: Rebecca Danvers, Director of Research and Technology, Institute of Museum and Library Services, 1100 Pennsylvania Ave., NW., Room 223, Washington, DC 20506.

SUPPLEMENTARY INFORMATION:

I. Background

The Institute of Museum and Library Services is an independent Federal grant-making agency authorized by the Museum and Library Services Act, Pub. L. 104-208, as amended. The IMLS provides a variety of grant programs to assist the nation's museums and libraries in improving their operations and enhancing their services to the public. Museums and libraries of all sizes and types may receive support from IMLS programs.

The Museum and Library Services Act includes a strong emphasis on supporting library services through the use of technology, on assisting museums in their educational role, and in modernizing their methods and facilities. This survey will assist IMLS in understanding the current status and capacity of museums and libraries to use digitization and technology to deliver educational resources to students, life-long learners, underserved populations, and the general public.

Pub. L. 104-208 enacted on September 30, 1996, as amended, contains the Library Services and Technology Act and the Museum Services Act.

Pub. L. 104-208 authorizes the Director of the Institute of Museum and Library Services to make grants to States, and to Indian tribes and to organizations that primarily serve and represent Native Hawaiians for—

(1) Expanding services for learning and access to information and educational resources in a variety of formats, in all types of libraries, for individuals of all ages;

(2) Developing library services that provide all users access to information through local, State, regional, national, and international electronic networks;

(3) Providing electronic and other linkages among and between all types of libraries;

(4) Developing public and private partnerships with other agencies and community-based organizations;

(5) Targeting library services to individuals of diverse geographic, cultural, and socioeconomic backgrounds, to individuals with disabilities, and to individuals with limited functional literacy or information skills; and

(6) Targeting library and information services to persons having difficulty using a library and to understand urban and rural communities, including children (from birth through age 17) from families with incomes below the poverty line (as defined by the Office of Management and Budget and revised annually in accordance with section 673(2) of the Community Services Block Grant Act (42 U.S.C. 9902(2)) applicable to a family of the size involved.

Pub. L. 104-208 also provides authority for the Director to make grants, and to enter into contracts and cooperative agreements for activities that may include

(1) Education, recruitment, and training of persons in library and information science, particularly in areas of new technology and other critical needs, including graduate fellowships, traineeships, institutes and other programs.

(2) Research and demonstration projects related to the improvement of libraries, education in library and information science, enhancement of library services through effective and efficient use of new technologies, and dissemination of information derived from such projects;

(3) Preserving or digitization of library materials and resources, giving priority to projects emphasizing coordination, avoidance of duplication, and access by researchers beyond the institution of library entity undertaking the project; and

(4) Model programs demonstrating cooperative efforts between libraries and museums.

Pub. L. 104-208 also provides authority for the Director to make grants to museums, and to Indian tribes and to organizations that primarily serve and represent Native Hawaiians for activities such as—

(1) Supporting museums in providing learning and access to collections, information, and educational resources in a variety of formats (including exhibitions, programs, publications, and websites) for individuals of all ages;

(2) supporting museums in building learning partnerships with the Nation's schools and developing museum resources and programs in support of State and local school curricula;

(3) supporting museums in assessing, conserving, researching, maintaining, and exhibiting their collections, and in providing educational programs to the public through the use of their collections;

(4) stimulating greater collaboration among museums, libraries, schools, and other community organizations in order to share resources and strengthen communities;

(5) encouraging the use of new technologies and broadcast media to enhance access to museum collections, programs, and services;

(6) supporting museums in providing services to people of diverse geographic, cultural, and socioeconomic backgrounds and to individuals with disabilities;

(7) supporting museums in developing and carrying out specialized programs for specific segments of the public, such as programs for urban neighborhoods, rural areas, Indian reservations, and State institutions;

(8) supporting professional development and technical assistance programs to enhance museum operations at all levels, in order to ensure the highest standards in all aspects of museum operations;

(9) supporting museums in research, program evaluation, and the collection and dissemination of information to museum professionals and the public; and

(10) encouraging, supporting, and disseminating model programs of museum and library collaboration.

The Director is also authorized to enter into contracts and cooperative agreements with appropriate entities to strengthen museum services.

II. Current Actions

One of the core duties of the Institute of Museum and Library Services, as stated in its strategic plan, is to create and sustain a nation of learners by building the capacity of libraries and museums. This goal will be accomplished in part by promoting access to learning and information resources held by museums and libraries through electronic linkages. IMLS is seeking assistance in developing specific plans to collect information from the U.S. library, museum and archive communities to assess their digitization readiness and technological capacity. A great deal of information has been collected on the Internet access of libraries for internal and public access. The information IMLS collects should build on but not duplicate existing or ongoing collections.

Title: Technology and Digitization Survey.

OMB Number: None.

Agency Number: 3137.

Frequency: One time.

Affected Public: Museums, libraries, archives and State Library Administrative Agencies.

Number of Respondents: 6366.

Estimated Time Per Respondent: 1 hour.

Estimated Time Per Respondent: 1 hour.

Total Burden Hours: 6366.

Total Annualized capital/startup costs: 0.

Total Annual Costs: $247,080.

Contact: Comments should be sent to the Office of Information and Regulatory Affairs, Attn.: OMB Desk Officer for Education, Office of Management and Budget, Room 10235, Washington, DC 20503 (202) 395-7316.

Dated: April 29, 2004.
Rebecca Danvers,
Director of Research and Technology.

[FR Doc. 04-10082 Filed 5-3-04; 8:45 am]

BILLING CODE 7036-01-M